ENVIRONMENTAL PROTECTION AGENCY

40 CFR Part 52

[EPA-R09-OAR-2014-0924; FRL-9924-77-Region 9]

Revisions to the California State Implementation Plan, Feather River Air Quality Management District

AGENCY: Environmental Protection Agency (EPA).

ACTION: Direct final rule.

SUMMARY: The Environmental Protection Agency (EPA) is taking direct final action to approve revisions to the Feather River Air Quality Management District (FRAQMD) portion of the California State Implementation Plan (SIP). These revisions concern volatile organic compound (VOC), oxides of nitrogen (NOX) and particulate matter (PM) emissions from rice straw burning, surface preparation and cleanup for solvents, wood product coating operations, boilers, steam generators, process heaters, and stationary internal combustion engines. We are approving local rules that regulate these emission sources under the Clean Air Act (CAA or the Act).

DATES: This rule is effective on June 22, 2015 without further notice, unless EPA receives adverse comments by May 26, 2015. If we receive such comments, we will publish a timely withdrawal in the Federal Register to notify the public that this direct final rule will not take effect.

ADDRESSES: Submit comments, identified by docket number EPA-R09-OAR-2014-0924, by one of the following methods:

1. Federal eRulemaking Portal: www.regulations.gov. Follow the on-line instructions.

2. Email: steckel.andrew@epa.gov.

3. Mail or deliver: Andrew Steckel (Air-4), U.S. Environmental Protection Agency Region IX, 75 Hawthorne Street, San Francisco, CA 94105-3901.

Instructions: All comments will be included in the public docket without change and may be made available online at www.regulations.gov, including any personal information provided, unless the comment includes Confidential Business Information (CBI) or other information whose disclosure is restricted by statute. Information that you consider CBI or otherwise protected should be clearly identified as such and should not be submitted through www.regulations.gov or email. www.regulations.gov is an “anonymous access” system, and EPA will not know your identity or contact information unless you provide it in the body of your comment. If you send email directly to EPA, your email address will be automatically captured and included as part of the public comment. If EPA cannot read your comment due to technical difficulties and cannot contact you for clarification, EPA may not be able to consider your comment. Electronic files should avoid the use of special characters, any form of encryption, and be free of any defects or viruses.

Docket: Generally, documents in the docket for this action are available electronically at www.regulations.gov and in hard copy at EPA Region IX, 75 Hawthorne Street, San Francisco, California 94105-3901. While all documents in the docket are listed at www.regulations.gov, some information may be publicly available only at the hard copy location (e.g., copyrighted material, large maps), and some may not be publicly available in either location (e.g., CBI). To inspect the hard copy materials, please schedule an appointment during normal business hours with the contact listed in the FOR FURTHER INFORMATION CONTACT section.

FOR FURTHER INFORMATION CONTACT: Kevin Gong, EPA Region IX, (415) 972-3073, Gong.Kevin@epa.gov.

SUPPLEMENTARY INFORMATION: Throughout this document, “we,” “us,” and “our” refer to EPA.

Table of Contents

I. The State's Submittal

A. What rules did the State submit?

B. Are there other versions of these rules?

C. What is the purpose of the submitted rules or rule revisions?

II. EPA's Evaluation and Action

A. How is EPA evaluating the rules?

B. Do the rules meet the evaluation criteria?

C. EPA Recommendations to Further Improve the Rules

D. Public Comment and Final Action

III. Incorporation by Reference

IV. Statutory and Executive Order Reviews

I. The State's Submittal

A. What rules did the State submit?

Table 1 lists the rules addressed by this action with the dates that they were adopted by the local air agency and submitted by the California Air Resources Board.

Table 1—Submitted Rules
Local agency | Rule No. | Rule title | Adopted or amended | Submitted
FRAQMD | 10.9 | Rice Straw Emission Reduction Credits and Banking | 4/6/2009 | 11/6/2014
FRAQMD | 3.14 | Surface Preparation and Clean-Up | 8/1/2011 | 2/10/2014
FRAQMD | 3.20 | Wood Products Coating Operations | 8/1/2011 | 2/10/2014
FRAQMD | 3.21 | Industrial, Institutional, and Commercial Boilers, Steam Generators, and Process Heaters | 6/5/2006 | 2/10/2014
FRAQMD | 3.22 | Stationary Internal Combustion Engines | 10/6/2014 | 11/6/2014

On May 5, 2014, EPA determined that the submittal for FRAQMD Rules 3.14, 3.20 and 3.21 met the completeness criteria in 40 CFR part 51, appendix V, which must be met before formal EPA review. On December 18, 2014, EPA determined that the submittal for FRAQMD Rules 10.9 and 3.22 met the completeness criteria.

B. Are there other versions of these rules?

There are no previous versions of Rules 10.9, 3.20 and 3.21 in the SIP. We approved an earlier version of Rule 3.14 that had been submitted by the Sutter County Air Pollution Control District (SCAPCD) on May 3, 1982 in 47 FR 118856. SCAPCD is a predecessor agency to FRAQMD and so that version of the rule is enforceable by FRAQMD. We included an earlier version of Rule 3.22 into the SIP on March 1, 2012 in 77 FR 12493 in a limited approval and limited disapproval action.

C. What is the purpose of the submitted rules or rule revisions?

VOCs help produce ground-level ozone and smog, which harm human health and the environment. Section 110(a) of the CAA requires States to submit regulations that control VOC emissions. Rule 10.9 establishes standards, processes and procedures for calculating creditable VOC emissions reductions from the curtailment of rice straw burning. Rules 3.14 and 3.20 establish limits and control procedures for reducing VOC emissions resulting from solvent use and wood product coating operations. Rule 3.22 limits VOC emissions from internal combustion engines.

NOX helps produce ground-level ozone, smog and particulate matter, which harm human health and the environment. Section 110(a) of the CAA requires States to submit regulations that control NOX emissions. Rule 10.9 establishes standards, processes and procedures for calculating creditable NOX emissions reductions from the curtailment of rice straw burning. Rules 3.21 and 3.22 limit NOX emissions from combustion sources including internal combustion engines, boilers, steam generators, and process heaters.

PM contributes to effects that are harmful to human health and the environment, including premature mortality, aggravation of respiratory and cardiovascular disease, decreased lung function, visibility impairment, and damage to vegetation and ecosystems. Section 110(a) of the CAA requires States to submit regulations that control PM emissions. Rule 10.9 establishes standards, processes and procedures for calculating creditable PM emissions reductions from the curtailment of rice straw burning. Rules 3.21 and 3.22 directly limit NOX emissions which are a precursor to PM2.5.

EPA's technical support documents (TSDs) have more information about these rules.

II. EPA's Evaluation and Action

A. How is EPA evaluating the rules?

SIP rules must be enforceable (see CAA section 110(a)(2)), must not interfere with applicable requirements concerning attainment and reasonable further progress or other CAA requirements (see CAA section 110(l)), and must not modify certain SIP control requirements in nonattainment areas without ensuring equivalent or greater emissions reductions (see CAA section 193). Additionally, Rule 10.9 includes provisions that generate emission reduction credits for use as offsets in the New Source Review (NSR) program, and must meet the NSR requirement for valid offsets (see CAA section 173(c)). Such rules are also evaluated against EPA's non-binding guidance on economic incentive programs.

Guidance and policy documents that we use to evaluate enforceability, revision/relaxation and rule stringency requirements for the applicable criteria pollutants include the following:

1. “State Implementation Plans; General Preamble for the Implementation of Title I of the Clean Air Act Amendments of 1990,” (57 FR 13498, April 16, 1992 and 57 FR 18070, April 28, 1992).

2. “Issues Relating to VOC Regulation Cutpoints, Deficiencies, and Deviations” (“the Bluebook,” U.S. EPA, May 25, 1988; revised January 11, 1990).

3. “Guidance Document for Correcting Common VOC & Other Rule Deficiencies” (“the Little Bluebook”, EPA Region 9, August 21, 2001).

4. “State Implementation Plans; Nitrogen Oxides Supplement to the General Preamble; Clean Air Act Amendments of 1990 Implementation of Title I; Proposed Rule” (“the NOX Supplement,” 57 FR 55620, November 25, 1992).

5. “Improving Air Quality with Economic Incentive Programs” (EPA-452/R-01-001, January 2001) http://www.epa.gov/ttn/oarpg/t1/memoranda/eipfin.pdf.

6. Rice Straw Emission Reduction Credit Model Rule Support Document (White Paper), Sacramento Federal Non-Attainment Area, October 16, 2008.

7. “Control Technique Guidelines for the Control of VOC Emission from Wood Furniture Manufacturing Operations” (EPA-453/R-96-007, April 1996).

8. “Control Technique Guidelines for Flat Wood Paneling Coatings” (EPA-453/R-06-004, September 2006).

9. “Control of Volatile Organic Emissions from Solvent Metal Cleaning” (EPA-450/2-77-022, November 1977).

10. “Control Techniques Guidelines for Industrial Cleaning Solvents” (EPA-453/R-06-001 September 2006).

11. “Control Technique Guidelines for Flexible Package Printing” (EPA-453/R-06-003, September 2006)

12. “Control of Volatile Organic Compound Emissions from Coating Operations at Aerospace Manufacturing and Rework Operations” (EPA-453/R-97-004, December 1997)

Generally, SIP rules must require Reasonably Available Control Technology (RACT) for each category of sources covered by a Control Techniques Guidelines (CTG) document as well as each VOC and NOX major source in ozone nonattainment areas classified as moderate or above (see sections 182(b)(2) and 182(f)). 40 CFR 81.305 describes FRAQMD as regulating a portion of the Sacramento Metro Area nonattainment area classified as Severe-15 for the 1997 and 2008 8-hour ozone National Ambient Air Quality Standards (NAAQS), and classified as Severe-15 for the 1-hour ozone standard. The rest of FRAQMD is classified as a Section 185A Area for the 1-hour ozone standard. These rules must implement RACT, as the District regulates an ozone nonattainment area classified as Severe.

B. Do the rules meet the evaluation criteria?

We believe these rules are consistent with the relevant policy and guidance regarding enforceability, RACT or RACM, and SIP relaxations. The TSDs have more information on our evaluation.

C. EPA Recommendations To Further Improve the Rules

The TSDs describe additional rule revisions that we recommend for the next time the local agency modifies the rules but are not currently the basis for rule disapproval.

D. Public Comment and Final Action

As authorized in section 110(k)(3) of the Act, EPA is fully approving the submitted rules because we believe they fulfill all relevant requirements. We do not think anyone will object to this approval, so we are finalizing it without proposing it in advance. However, in the Proposed Rules section of this Federal Register, we are simultaneously proposing approval of the same submitted rules. If we receive adverse comments by May 26, 2015, we will publish a timely withdrawal in the Federal Register to notify the public that the direct final approval will not take effect and we will address the comments in a subsequent final action based on the proposal. If we do not receive timely adverse comments, the direct final approval will be effective without further notice on June 22, 2015. This will incorporate these rules into the federally enforceable SIP.

Please note that if EPA receives adverse comment on an amendment, paragraph, or section of this rule and if that provision may be severed from the remainder of the rule, EPA may adopt as final those provisions of the rule that are not the subject of an adverse comment.

III. Incorporation by Reference

In this rule, the EPA is finalizing regulatory text that includes incorporation by reference. In accordance with requirements of 1 CFR 51.5, the EPA is finalizing the incorporation by reference of the FRAQMD rules described in the amendments to 40 CFR part 52 set forth below. The EPA has made, and will continue to make, these documents available electronically through www.regulations.gov and in hard copy at the appropriate EPA office (see the ADDRESSES section of this preamble for more information).

IV. Statutory and Executive Order Reviews

Under the Clean Air Act, the Administrator is required to approve a SIP submission that complies with the provisions of the Act and applicable Federal regulations. 42 U.S.C. 7410(k); 40 CFR 52.02(a). Thus, in reviewing SIP submissions, EPA's role is to approve State choices, provided that they meet the criteria of the Clean Air Act. Accordingly, this action merely approves State law as meeting Federal requirements and does not impose additional requirements beyond those imposed by State law. For that reason, this action:

• Is not a “significant regulatory action” subject to review by the Office of Management and Budget under Executive Order 12866 (58 FR 51735, October 4, 1993);

• does not impose an information collection burden under the provisions of the Paperwork Reduction Act (44 U.S.C. 3501 et seq.);

• is certified as not having a significant economic impact on a substantial number of small entities under the Regulatory Flexibility Act (5 U.S.C. 601 et seq.);

• does not contain any unfunded mandate or significantly or uniquely affect small governments, as described in the Unfunded Mandates Reform Act of 1995 (Pub. L. 104-4);

• does not have Federalism implications as specified in Executive Order 13132 (64 FR 43255, August 10, 1999);

• is not an economically significant regulatory action based on health or safety risks subject to Executive Order 13045 (62 FR 19885, April 23, 1997);

• is not a significant regulatory action subject to Executive Order 13211 (66 FR 28355, May 22, 2001);

• is not subject to requirements of Section 12(d) of the National Technology Transfer and Advancement Act of 1995 (15 U.S.C. 272 note) because application of those requirements would be inconsistent with the Clean Air Act; and

• does not provide EPA with the discretionary authority to address disproportionate human health or environmental effects with practical, appropriate, and legally permissible methods under Executive Order 12898 (59 FR 7629, February 16, 1994).

The SIP is not approved to apply on any Indian reservation land or in any other area where EPA or an Indian tribe has demonstrated that a tribe has jurisdiction. In those areas of Indian country, the rule does not have tribal implications and will not impose substantial direct costs on tribal governments or preempt tribal law as specified by Executive Order 13175 (65 FR 67249, November 9, 2000).

The Congressional Review Act, 5 U.S.C. 801 et seq., as added by the Small Business Regulatory Enforcement Fairness Act of 1996, generally provides that before a rule may take effect, the agency promulgating the rule must submit a rule report, which includes a copy of the rule, to each House of the Congress and to the Comptroller General of the United States. EPA will submit a report containing this action and other required information to the U.S. Senate, the U.S. House of Representatives, and the Comptroller General of the United States prior to publication of the rule in the Federal Register. A major rule cannot take effect until 60 days after it is published in the Federal Register. This action is not a “major rule” as defined by 5 U.S.C. 804(2).

Under section 307(b)(1) of the Clean Air Act, petitions for judicial review of this action must be filed in the United States Court of Appeals for the appropriate circuit by June 22, 2015. Filing a petition for reconsideration by the Administrator of this final rule does not affect the finality of this action for the purposes of judicial review nor does it extend the time within which a petition for judicial review may be filed, and shall not postpone the effectiveness of such rule or action. Parties with objections to this direct final rule are encouraged to file a comment in response to the parallel notice of proposed rulemaking for this action published in the Proposed Rules section of this Federal Register, rather than file an immediate petition for judicial review of this direct final rule, so that EPA can withdraw this direct final rule and address the comment in the proposed rulemaking. This action may not be challenged later in proceedings to enforce its requirements (see section 307(b)(2)).

List of Subjects in 40 CFR Part 52

Environmental protection, Air pollution control, Incorporation by reference, Nitrogen dioxide, Ozone, Particulate matter, Reporting and recordkeeping requirements, Volatile organic compounds.

Dated: February 27, 2015.
Jared Blumenfeld,
Regional Administrator, Region IX.

Part 52, chapter I, title 40 of the Code of Federal Regulations is amended as follows:

PART 52—APPROVAL AND PROMULGATION OF IMPLEMENTATION PLANS

1. The authority citation for part 52 continues to read as follows:

Authority: 42 U.S.C. 7401 et seq.

Subpart F—California

2. Section 52.220, is amended by adding paragraphs (c)(442)(i)(E) and (c)(457) to read as follows:

§ 52.220 Identification of plan.

* * * * *

(c) * * *

(442) * * *

(i) * * *

(E) Feather River Air Quality Management District.

(1) Rule 3.14, “Surface Preparation and Clean-Up,” amended on August 1, 2011.

(2) Rule 3.20, “Wood Products Coating Operations,” amended on August 1, 2011.

(3) Rule 3.21, “Industrial, Institutional, and Commercial Boilers, Steam Generators, and Process Heaters,” adopted on June 5, 2006.

* * * * *

(457) New and amended regulations for the following APCDs were submitted on November 6, 2014 by the Governor's designee.

(i) Incorporation by reference.

(A) Feather River Air Quality Management District.

(1) Rule 10.9, “Rice Straw Emission Reduction Credits and Banking,” amended on October 6, 2014.

(2) Rule 3.22, “Stationary Internal Combustion Engines,” amended on October 6, 2014.

[FR Doc. 2015-09409 Filed 4-22-15; 8:45 am]

BILLING CODE 6560-50-P